DEPARTMENT OF LABOR

Office of the Secretary

Agency Information Collection Activities; Submission for OMB Review; Comment Request; Focus Groups and Survey Regarding Pension Benefit Statements

ACTION: Notice.

SUMMARY: The Department of Labor (DOL) is submitting the Employee Benefits Security Administration (EBSA) sponsored information collection request (ICR) titled, “Focus Groups and Survey Regarding Pension Benefit Statements,” to the Office of Management and Budget (OMB) for review and approval for use in accordance with the Paperwork Reduction Act (PRA) of 1995 (44 U.S.C. 3501 et seq.).

DATES: Submit comments on or before September 9, 2013.

ADDRESSES: A copy of this ICR with applicable supporting documentation; including a description of the likely respondents, proposed frequency of response, and estimated total burden may be obtained free of charge from the RegInfo.gov Web site at http://www.reginfo.gov/public/do/PRAViewICR?ref_nbr= 201305-1210-006 (this link will only become active on the day following publication of this notice) or by contacting Michel Smyth by telephone at 202-693-4129 (this is not a toll-free number) or sending an email to DOL_PRA_PUBLIC@dol.gov.

Submit comments about this request to the Office of Information and Regulatory Affairs, Attn: OMB Desk Officer for DOL-EBSA, Office of Management and Budget, Room 10235, 725 17th Street NW., Washington, DC 20503, Fax: 202-395-6881 (this is not a toll-free number), email: OIRA_submission@omb.eop.gov. Commenters are encouraged, but not required, to send a courtesy copy of any comments to the U.S. Department of Labor-OASAM, Office of the Chief Information Officer, Attn: Information Management Program, 200 Constitution Avenue NW., Washington, DC 20210, email: DOL_PRA_PUBLIC@dol.gov.

FOR FURTHER INFORMATION CONTACT: Michel Smyth by telephone at 202-693-4129 (this is not a toll-free number) or by email at DOL_PRA_PUBLIC@dol.gov.

Authority: 44 U.S.C. 3507(a)(1)(D).

SUPPLEMENTARY INFORMATION: Employee Retirement Income Security Act of 1974 (ERISA) section 105(a) requires an ERISA-covered individual account plan administrator to furnish periodic benefit statements to participants and beneficiaries. This new ICR seeks OMB approval to conduct a survey and an experiment on participants in an existing household American Life Panel (ALP) via the Internet and to conduct four focus groups of non-panel members. The survey and focus groups would explore whether information contained in sample benefit statements can be presented in a way that improves recipients' understanding of the statements and helps them better plan for retirement. Specifically, the EBSA would collect data through four focus groups that will pretest the model benefits statements, each containing slightly different information, and a survey of 2,900 ALP respondents. For additional substantive information about this ICR, see the related notice published in the Federal Register on January 22, 2013 (78 FR 4458).

This proposed information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6.

Interested parties are encouraged to send comments to the OMB, Office of Information and Regulatory Affairs at the address shown in the ADDRESSES section within 30 days of publication of this notice in the Federal Register. In order to help ensure appropriate consideration, comments should mention OMB ICR Reference Number 201305-1210-006. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-EBSA.

Title of Collection: Focus Groups and Survey Regarding Pension Benefit Statements.

OMB ICR Reference Number: 201305-1210-006.

Affected Public: Individuals or Households.

Total Estimated Number of Respondents: 2,950.

Total Estimated Number of Responses: 2,950.

Total Estimated Annual Burden Hours: 945.

Total Estimated Annual Other Costs Burden: $0.

Dated: August 1, 2013.
Michel Smyth,
Departmental Clearance Officer.

[FR Doc. 2013-19286 Filed 8-8-13; 8:45 am]

BILLING CODE 4510-29-P